DEPARTMENT OF DEFENSE

Office of the Secretary

[Transmittal No. 15-14]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 15-14 with attached transmittal, policy justification, and Sensitivity of Technology.

Dated: June 9, 2015.
Aaron Siegel,
Alternate OSD Federal Register Liaison Officer, Department of Defense.

Transmittal No. 15-14

Notice of Proposed Issuance of Letter of Offer Pursuant to Section 36(b)(1) of the Arms Export Control Act, as amended

(i) Prospective Purchaser: United Arab Emirates

(ii) Total Estimated Value:

Major Defense Equipment * | $100 million
Other | $ 30 million
Total | $130 million

(iii) Description and Quantity or Quantities of Articles or Services under Consideration for Purchase: 500 GBU-31B/B(V)1 (MK-84/BLU-117) bombs, 500 GBU-31B/B(V)3 (BLU-109) bombs, and 600 GBU-12 (MK-82/BLU-111) bombs, containers, fuzes, spare and repair parts, support equipment, publications and technical documentation, personnel training and training equipment, U.S. Government and contractor logistics and technical support services, and other related elements of logistics support.

(iv) Military Department: USAF (AAE)

(v) Prior Related Cases, if any:

FMS case SAA-$114M-24Aug00

FMS case YAB-$156M-31Aug02

FMS case YAC-$874M-4Mar08

FMS case AAC-$14M-8Jun11

FMS case AAD-$12M-30Jan15

(vi) Sales Commission, Fee, etc., Paid, Offered, or Agreed to be Paid: None

(vii) Sensitivity of Technology Contained in the Defense Article or Defense Services

Proposed to be Sold: See Attached Annex

(viii) Date Report Delivered to Congress: 29 MAY 2015

* As defined in Section 47(6) of the Arms Export Control Act.

POLICY JUSTIFICATION

United Arab Emirates (UAE)—Guided Bomb Units (GBU-31s and GBU-12s)

The Government of the United Arab Emirates has requested a possible sale of 500 GBU-31B/B(V)1 (MK-84/BLU-117) bombs, 500 GBU-31B/B(V)3 (BLU-109) bombs, and 600 GBU-12 (MK-82/BLU-111) bombs, containers, fuzes, spare and repair parts, support equipment, publications and technical documentation, personnel training and training equipment, U.S. Government and contractor logistics and technical support services, and other related elements of logistics support. The estimated cost is $130 million.

This proposed sale will contribute to the foreign policy and national security of the United States by helping a strategic partner which has been, and continues to be, an important force for political stability and economic progress in the Middle East.

The proposed sale will provide the UAE with additional precision guided munitions capability to meet the current threat represented by the Islamic State in Iraq and the Levant, and Houthi aggression in Yemen. The UAE continues to provide host-nation support of vital U.S. forces stationed at Al Dhafra Air Base and plays a vital role in supporting U.S. regional interests. The UAE has proven to be a valued partner and an active participant in coalition operations. The UAE will have no difficulty absorbing these additional munitions into its armed forces.

The proposed sale of these munitions will not alter the basic military balance in the region.

The principal contractors will be The Boeing Company in Chicago, Illinois; and Raytheon Missile Systems in Tucson, Arizona. There are no known offset agreements proposed in connection with this potential sale.

Implementation of this sale will not require any additional U.S. Government or contractor representatives' in the UAE. However, periodic travel will be required on a temporary basis for program reviews and technical support.

There will be no adverse impact on U.S. defense readiness as a result of this sale.

Transmittal No. 15-14

Notice of Proposed Issuance of Letter of Offer Pursuant to Section 36(b)(1) of the Arms Export Control Act

Annex

Item No. vii

(vii) Sensitivity of Technology:

1. The GBU-31 (2000 lb) Joint Direct Attack Munition (JDAM) is a guidance tail kit that converts unguided free-fall bombs into accurate, GPS guided adverse weather “smart” munitions. With the addition of a new tail section that contains an inertial navigational system and a global positioning system guidance control unit, JDAM improves the accuracy of unguided, general-purpose bombs in any weather condition. JDAM can be launched from very low to very high altitudes in a dive, toss and loft, or in straight and level flight with an on-axis or off-axis delivery. JDAM enables multiple weapons to be directed against single or multiple targets on a single pass. The GBU-31 V1 contains the standard BLU-117, Mk-84 bomb body. The GBU-31 V3 contains the BLU-109 penetrator bomb body. The highest classification for the JDAM, its components, and technical data is Secret. Weapon accuracy is dependent on target coordinates and present position as entered into the guidance control unit. After weapon release, movable tail fins guide the weapon to the target coordinates. In addition to the tail kit, other elements in the overall system that are essential for successful employment include:

a. Access to accurate target coordinates

b. INS/GPS capability

c. Operational Test and Evaluation Plan.

2. The Guided Bomb Unit (GBU-12) is a laser-guided ballistic bomb (LGB) based on the Mk 82 500-lb general purpose bomb. The LGB is a maneuverable, free-fall weapon that guides to a spot of laser energy reflected off of the target. The LGB is delivered like a normal general purpose warhead and the semi-active guidance corrects for many of the normal errors inherent in any delivery system. Laser designation for the weapon can be provided by a variety of laser target markers or designators. The laser seeker allows the user to select a unique code for use in the multi-laser environment and reduce the probability of interference among multiple weapons. The LGB consists of a laser guidance kit, a computer control group (CCG) and a warhead specific Air Foil Group (AFG) that attach to the nose and tail of the Mk 82. The overall classification of the weapon is Confidential.

3. If a technologically advanced adversary were to obtain knowledge of the specific hardware and software elements, the information could be used to develop countermeasures which might reduce weapon system effectiveness or be used in the development of a system with similar or advanced capabilities.

4. A determination has been made that the recipient country can provide the same degree of protection for the sensitive technology being released as the U.S. Government. This sale is necessary in furtherance of the U.S. foreign policy and national security objectives outlined in the Policy Justification.

5. All defense articles and services listed in this transmittal have been authorized for release and export to the United Arab Emirates.

[FR Doc. 2015-14406 Filed 6-11-15; 8:45 am]

BILLING CODE 5001-06-P